DEPARTMENT OF LABOR

Employment and Training Administration

[NAFTA-5257]

J.T. Fennell Company, Inc., Chillicothe, Illinois; Dismissal of Application for Reconsideration

Pursuant to 29 CFR 90.18(C) an application for administrative reconsideration was filed with the Director of the Division of Trade Adjustment Assistance for workers at J.T. Fennell Company, Inc., Chillicothe, Illinois. The application contained no new substantial information which would bear importantly on the Department's determination. Therefore, dismissal of the application was issued.

NAFTA-5257; J.T. Fennell Company, Inc. Chillicothe, Illinois (March 21, 2002)

Signed at Washington, DC this 11th day of April, 2002.
Edward A. Tomchick,
Director, Division of Trade Adjustment Assistance.

[FR Doc. 02-9762 Filed 4-19-02; 8:45 am]

BILLING CODE 4510-30-M